DEPARTMENT OF DEFENSE

Office of the Secretary

Proposed Collection; Comment Request

AGENCY: Department of Defense, Defense Security Service.

ACTION: Notice.

In compliance with Section 350(c)(2)(A) of the Paperwork Reduction Act of 1995, the Office of the Assistant Secretary of Defense (C3I) announces the proposed reinstatement of a public information collection and seeks public comment on the provisions thereof, Comments are invited on: (a) Whether the proposed collection of information is necessary for the proper performance of the functions of the agency, including whether the information shall have practical utility; (b) the accuracy of the agency's estimate of the burden of the proposed information collection; (c) ways to enhance the quality, utility, clarity of the information to be collected; and (d) ways to minimize the burden of the information collection on respondents, including through the use of automated collection techniques or other forms of information technology.

DATES: Consideration will be given to all comments received by February 20, 2003.

ADDRESSES: Written comments and recommendations on the proposed information collection should be sent to the Defense Security Service.

FOR FURTHER INFORMATION CONTACT: To request more information on this proposed information collection or to obtain a copy of the proposal and associated collection instruments, please write to the above address, or call the Defense Security Service at (703) 325-6182.

Title, Associated Forms, and OMB Number: Department of Defense request for Personnel Security Investigation; DD Form 1879; OMB Number 0704-0384. Needs and Uses: The information collection requirement is necessary to solicit minimal information and investigative information, which will become part of the security clearance investigations for access to classified information or employment in sensitive positions.

Affected Public: Individuals, Business, or other for profit.

Annual Burden Respondents: 32,164.

Number of Burden Hours: 8.041.

Number of Respondents: 32,164.

Responses per Respondent: 1.

Average Burden Per Response: 15 minutes.

Frequency: On occasion.

SUPPLEMENTARY INFORMATION:

Summary of Information Collection

The DD Form 1879, “Department of Defense Request for Personnel Security Investigation,” is used to request Single Scope Background Investigations (SSBIs), National Agency Checks with Local Agency Checks and Credit Checks (NACLCs), National Agency Checks (NACs), SSBI Periodic Reinvestigations (PRs), or Special Investigative Inquiries (SIIs). It will accompany the Standard Form 85-P, “Questionnaire for Public Trust Position,” or Standard Form 86, “Questionnaire for National security Position,” which will be used by the Defense Security Service for the purpose of conducting SSBIs, NACLCs, NACs, PRs, and SIIs. These provide the basis for determination of a person's eligibility for access to classified information, appointment to a sensitive position, assignment to duties that require a automated collection of techniques or personnel security or trustworthiness determination continuing eligibility for retention of a security clearance, or assignment to other sensitive duties.

Dated: December 31, 2002.
L.M. Bynum,
Alternate OSD Federal Register Liaison Officer, Department of Defense.

[FR Doc. 03-253 Filed 1-6-03; 8:45 am]

BILLING CODE 5001-08-M